DEPARTMENT OF THE INTERIOR

National Park Service

[NPS-WASO-NAGPRA-NPS0038633; PPWOCRADN0-PCU00RP14.R50000]

Notice of Inventory Completion: California State University, Sacramento, Sacramento, CA

AGENCY: National Park Service, Interior.

ACTION: Notice.

SUMMARY: In accordance with the Native American Graves Protection and Repatriation Act (NAGPRA), the California State University, Sacramento has completed an inventory of human remains and associated funerary objects and has determined that there is a cultural affiliation between the human remains and associated funerary objects and Indian Tribes or Native Hawaiian organizations in this notice.

DATES: Repatriation of the human remains and associated funerary objects in this notice may occur on or after October 10, 2024.

ADDRESSES: Dr. Mark R. Wheeler, Senior Advisor to President Luke Wood, California State University, Sacramento, 6000 J Street Sacramento, CA 95819, telephone (916) 460-0490, email mark.wheeler@csus.edu.

SUPPLEMENTARY INFORMATION: This notice is published as part of the National Park Service's administrative responsibilities under NAGPRA. The determinations in this notice are the sole responsibility of the California State University, Sacramento, and additional information on the determinations in this notice, including the results of consultation, can be found in its inventory or related records. The National Park Service is not responsible for the determinations in this notice.

Abstract of Information Available

Human remains representing, at least, three individuals have been identified from CA-TEH-269, located in the eastern-central portion of Tehama County, CA. The 6,303 associated funerary objects include baked clay objects; faunal and floral remains; flaked and ground stones; historic materials; modified bones, shells and stones; coprolites; unmodified stones; basketry fragments; and charcoal. Of this number, at least 22 objects are currently missing from the collection. Sacramento State continues to look for any missing objects. The human remains and funerary objects were collected by individuals associated with the California State University, Sacramento in the 1960s. They have since been housed at the University under accession 81-9.

Human remains representing, at least, one individual have been identified from CA-TEH-309, located in the eastern-central portion of Tehama County. The 241 associated funerary objects include faunal remains (shell), flaked stone, and groundstone. An unknown number of objects may be missing from this collection and Sacramento State will continue to look for them. The human remains and funerary objects were excavated by University of California, Davis and individuals associated with California State University, Sacramento in the 1960s. They were transferred to California State University, Sacramento from University of California, Davis in 2015 in order to reunite them with other cultural materials from the same project and accession (#81-30).

Human remains representing, at least, one individual have been identified from CA-TEH-372, located in the eastern-central portion of Tehama County, CA. The 6,078 associated funerary objects include baked clay objects; faunal and floral remains; flaked and ground stones; historic materials; modified bones, shells and stones; thermally altered rocks; pigments; unmodified stones; soil samples; and geologic samples. Of this number, at least six objects are currently missing from the collection. Sacramento State continues to look for any missing objects. The human remains and funerary objects were collected by individuals associated with the California State University, Sacramento in the 1960s and 1970s. They have since been housed at the University under accessions 81-6 and 81-9.

Human remains representing, at least, one individual have been identified from CA-TEH-454 or 455, located in the easter-central portion of Tehama County, CA. The human remains were donated to California State University, Sacramento in the 1970s and have been housed at the University under accession 81-CSUS-100.

Human remains representing, at least, two individuals have been identified from CA-TEH-Hooper 1979:5, located in the eastern-central portion of Tehama County, CA. The 20,655 associated funerary objects include baked clay objects; faunal and floral remains; flaked and ground stones; historic materials; modified bones, shells and stones; thermally altered rocks; pigments; unmodified stones; soil samples; ash; manuports; geologic samples; and unidentified objects. The human remains and funerary objects were collected by individuals associated with the California State University, Sacramento in the 1980s. They have since been housed at the University under accessions 81-120.

Cultural Affiliation

Based on the information available and the results of consultation, cultural affiliation is clearly identified by the information available about the human remains and associated funerary objects described in this notice.

Determinations

The California State University, Sacramento has determined that:

• The human remains described in this notice represent the physical remains of eight individuals of Native American ancestry.

• The 33,277 objects described in this notice are reasonably believed to have been placed intentionally with or near individual human remains at the time of death or later as part of the death rite or ceremony.

• There is a connection between the human remains and associated funerary objects described in this notice and the Grindstone Indian Rancheria of Wintun-Wailaki Indians of California and the Paskenta Band of Nomlaki Indians of California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after October 10, 2024. If competing requests for repatriation are received, the California State University, Sacramento must determine the most appropriate requestor prior to repatriation. Requests for joint repatriation of the human remains and associated funerary objects are considered a single request and not competing requests. The California State University, Sacramento is responsible for sending a copy of this notice to the Indian Tribes and Native Hawaiian organizations identified in this notice.

Authority: Native American Graves Protection and Repatriation Act, 25 U.S.C. 3003, and the implementing regulations, 43 CFR 10.10.

Dated: August 29, 2024.
Melanie O'Brien,
Manager, National NAGPRA Program.

[FR Doc. 2024-20296 Filed 9-9-24; 8:45 am]

BILLING CODE 4312-52-P